MILLENNIUM CHALLENGE CORPORATION

[MCC FR 24-02]

Notice of Open Meeting

AGENCY: Millennium Challenge Corporation.

ACTION: Notice.

SUMMARY: In accordance with the requirements of the Federal Advisory Committee Act, the Millennium Challenge Corporation (MCC) Economic Advisory Council was established as a discretionary advisory committee on October 5, 2018. Its charter was most recently renewed on September 30, 2022, for two additional years. The MCC Economic Advisory Council serves MCC solely in an advisory capacity and provides advice and guidance to MCC economists, evaluators, leadership of the Department of Policy and Evaluation, and senior MCC leadership regarding relevant trends in development economics, applied economic and evaluation methods, poverty analytics, as well as modeling, measuring, and evaluating development interventions. In doing so, the MCC Economic Advisory Council helps sharpen MCC's analytical methods and capacity in support of the agency's economic development goals. It also serves as a sounding board and reference group for assessing and advising on strategic policy innovations and methodological directions in MCC.

DATES: Friday, April 12, 2024, from 10 a.m.-12:30 p.m. EDT.

ADDRESSES: The meeting will be held both in-person at 1099 14th Street NW, Suite 700, Washington, DC 20005 and virtually via WebEx.

FOR FURTHER INFORMATION CONTACT: Mesbah Motamed, 202.521.7874, MCCEACouncil@mcc.gov or visit www.mcc.gov/about/org-unit/economic-advisory-council.

SUPPLEMENTARY INFORMATION:

Agenda. During this meeting of the MCC Economic Advisory Council, members will receive an overview of MCC's work to fulfill its poverty reduction through economic growth mission and the role of the MCC Economic Advisory Council. The MCC Economic Advisory Council will also discuss issues related to MCC's ongoing program development and implementation, including work related to MCC-funded programs supporting “last mile” connections.

Public Participation: The meeting will be open to the public. Members of the public may file written statement(s) before or after the meeting. If you plan to participate, please submit your name and affiliation no later than Friday, April 5, 2024, to MCCEACouncil@mcc.gov to receive instructions for virtual participation and to be placed on an attendee list.

(Authority: Federal Advisory Committee Act, 5 U.S.C. App.)

Dated: March 25, 2024.
Peter E. Jaffe,
Vice President, General Counsel, and Corporate Secretary.

[FR Doc. 2024-06673 Filed 3-28-24; 8:45 am]

BILLING CODE 9211-03-P